DEPARTMENT OF COMMERCE

International Trade Administration

A-533-838

Carbazole Violet Pigment 23 from India: Final Results of Antidumping Duty Administrative Review

AGENCY: Import Administration, International Trade Administration, Department of Commerce

SUMMARY: On December 7, 2007, the Department of Commerce published the preliminary results of the administrative review of the antidumping duty order on carbazole violet pigment 23 from India. The review covers exports of this merchandise to the United States by Alpanil Industries for the period of review December 1, 2005, through November 30, 2006. We gave interested parties an opportunity to comment on the preliminary results. Based on our analysis of the comments we received from interested parties and the information we obtained after the preliminary results, we have made changes in the margin calculation for the final results of this review. The final weighted-average margin is listed below in the Final Results of Review section of this notice.

EFFECTIVE DATE: April 11, 2008.

FOR FURTHER INFORMATION CONTACT: Yang Jin Chun at (202) 482-5760 or Richard Rimlinger at (202) 482-4477, AD/CVD Operations, Office 5, Import Administration, International Trade Administration, U.S. Department of Commerce, 14th Street and Constitution Avenue, NW, Washington, DC 20230.

SUPPLEMENTARY INFORMATION:

Background

On December 7, 2007, the Department of Commerce (the Department) published the preliminary results of review on carbazole violet pigment 23 (CVP 23) from India and invited interested parties to comment. See Carbazole Violet Pigment 23 from India: Preliminary Results of Antidumping Duty Administrative Review, 72 FR 69184 (December 7, 2007) (Preliminary Results). On January 10, 2008, Alpanil Industries (Alpanil) filed a case brief in which the company raised two substantive issues. On January 15, 2008, the petitioners¹ and a domestic interested party² filed rebuttal briefs.

¹ Nation Ford Chemical Company and Sun Chemical Corporation.

² Clariant Corporation.

Scope of the Order

The merchandise subject to this antidumping duty order is CVP 23 identified as Color Index No. 51319 and Chemical Abstract No. 6358-30-1, with the chemical name of diindolo [3,2 b:3 ,2 -m]³ triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the investigation. The merchandise subject to this antidumping duty order is classifiable under subheading 3204.17.90.40 of the Harmonized Tariff Schedule of the United States (HTSUS). Although the HTSUS subheadings are provided for convenience and customs purposes, our written description of the scope of this order is dispositive.

³ The bracketed section of the product description, [3,2-b:3 ,2 -m], is not business-proprietary information. In this case, the brackets are simply part of the chemical nomenclature. See Notice of Amended Final Determination of Sales at Less Than Fair Value and Antidumping Duty Order: Carbazole Violet Pigment 23 From India, 69 FR 77988 (December 29, 2004) (Antidumping Duty Order).

Analysis of the Comments Received

All issues raised in the case and rebuttal briefs by interested parties to this review are addressed in the Issues and Decision Memorandum (Decision Memo) from Deputy Assistant Secretary Stephen J. Claeys to Assistant Secretary David M. Spooner dated April 7, 2008, which is hereby adopted by this notice. A list of the issues which parties have raised and to which we have responded in the Decision Memo is attached to this notice as an Appendix. The Decision Memo, which is a public document, is on file in the Central Records Unit (CRU), main Department of Commerce building, Room 1117, and is accessible on the Web at http://ia.ita.doc.gov/frn/index.html. The paper copy and electronic version of the Decision Memo are identical in content.

Changes Since the Preliminary Results

Based on our analysis of comments received and based on our own analysis of the preliminary results, we have made changes to the margin calculation with respect to three issues.

Sales Analyzed

Data we obtained from U.S. Customs and Border Protection (CBP) after we received the case and rebuttal briefs indicated that additional sales of subject merchandise Alpanil reported in its U.S. sales database entered the United States but liquidation of these sales was not suspended. Therefore, pursuant to section 751(a)(2)(C) of the Tariff Act of 1930, as amended (the Act), we have calculated the weighted-average margin using the sales of CVP 23 that are related to these entries during the period of review. Where possible, for those entries of subject merchandise for which there was no suspension of liquidation and which have been liquidated, we adjusted the importer-specific assessment rates to take into account the antidumping duty liability for subject merchandise that entered and was liquidated without regard to antidumping duties. See the Decision Memo for more details.

Inland Freight from the Plant to the Port of Exportation

For a certain number of sales, Alpanil reported in its U.S. sales database erroneous amounts of inland-freight expenses it incurred to transport subject merchandise from its plant to the port of exportation. We revised these expenses based on the freight-expense documents Alpanil provided. See Alpanil Final Analysis Memorandum dated April 7, 2008 (Final Analysis Memo), for more details that rely on Alpanil's business-proprietary information.

Constructed Value and Associated Expenses

For certain reported U.S. sales that did not have matching home-market sales, we used constructed value as the basis for normal value. Because Alpanil did not report general and administrative (G&A) expenses in its constructed-value database, we calculated Alpanil's G&A expenses using Alpanil's profit-and-loss statement and reported total cost of manufacturing and packing expenses. In order to calculate correct amounts of indirect selling expenses for constructed value, we revised Alpanil's home-market indirect selling expense by excluding transportation expenses from the recalculation of its home-market indirect-selling-expense rate. See Alpanil Final Analysis Memo for more details that rely on Alpanil's business-proprietary information.

Final Results of Review

As a result of our review, we determine that the weighted-average margin for Alpanil for the period of review December 1, 2005, through November 30, 2006, is 11.25 percent.

Assessment Rates

The Department shall determine, and CBP shall assess, antidumping duties on all appropriate entries. In accordance with 19 CFR 351.212(b)(1), we will issue importer-specific assessment instructions for entries of subject merchandise during the period of review. The Department will issue appropriate assessment instructions directly to CBP 15 days after publication of the final results of review.

The Department clarified its “automatic assessment” regulation on May 6, 2003 (68 FR 23954). This clarification will apply to entries of subject merchandise during the period of review produced by Alpanil for which it did not know its merchandise was destined for the United States. In such instances, we will instruct CBP to liquidate any unreviewed entries at the all-others rate if there is no rate for the intermediate company(ies) involved in the transaction. For a full discussion of this clarification, see Antidumping and Countervailing Duty Proceedings: Assessment of Antidumping Duties, 68 FR 23954 (May 6, 2003).

Cash-Deposit Requirements

The following deposit requirements will be effective upon publication of this notice of final results of administrative review for all shipments of CVP 23 entered, or withdrawn from warehouse, for consumption on or after the publication date of the final results, as provided by section 751(a)(1) and (a)(2)(C) of the Act: (1) the cash-deposit rate for Alpanil will be 11.25 percent; (2) for a previously investigated company, the cash-deposit rate will continue to be the company-specific rate published in Antidumping Duty Order, 69 FR at 77989; (3) if the exporter is not a firm covered in this review or the less-than-fair-value investigation but the manufacturer is, the cash-deposit rate will be the rate established for the most recent period for the manufacturer of the merchandise; (4) if neither the exporter nor the manufacturer has its own rate, the cash-deposit rate will be 27.48 percent, the all-others rate published in Antidumping Duty Order, 69 FR at 77989. These deposit requirements shall remain in effect until further notice.

Notification to Importers

This notice serves as a final reminder to importers of their responsibility under 19 CFR 351.402(f) to file a certificate regarding the reimbursement of antidumping duties prior to liquidation of the relevant entries during this period of review. Failure to comply with this requirement could result in the Department's presumption that reimbursement of antidumping duties occurred and the subsequent assessment of doubled antidumping duties.

Notification Regarding APOs

This notice also serves as a reminder to parties subject to administrative protective orders (APO) of their responsibility concerning the disposition of proprietary information disclosed under APO as explained in the APO itself. See 19 CFR 351.305(a)(3). Timely written notification of the return/destruction of APO materials or conversion to judicial protective order is hereby requested. Failure to comply with the regulations and terms of an APO is a sanctionable violation.

We are publishing these final results of administrative review and notice in accordance with sections 751(a)(1) and 777(i)(1) of the Act.

Dated: April 7, 2008.
David M. Spooner,
Assistant Secretary for Import Administration.

Appendix

1. Reported U.S. Sales and Sales That Entered the United States

2. Countervailing Duty Offset

[FR Doc. E8-7794 Filed 4-10-08; 8:45 am]

BILLING CODE 3510-DS-S